DEPARTMENT OF HOMELAND SECURITY

Bureau of Customs and Border Protection

Cancellation of Customs Broker License Due to Death of the License Holder

AGENCY: Bureau of Customs and Border Protection, Department of Homeland Security.

ACTION: General Notice.

SUMMARY: Notice is hereby given that, pursuant to Title 19 of the Code of Federal Regulations at section 111.51(a), the following individual Customs broker license and any and all permits have been cancelled due to the death of the broker:

Name | License # | Port Name
George Parisian | 10423 | Champlain.
Antonio Villarreal | 06624 | Laredo.
Amy E. Rowan | 15085 | Miami.
Louis Irizarry | 03797 | New York.

Dated: January 14, 2004.
Jayson P. Ahern,
Assistant Commissioner, Office of Field Operations.

[FR Doc. 04-1628 Filed 1-26-04; 8:45 am]

BILLING CODE 4820-02-P